FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than May 3, 2022.

A. Federal Reserve Bank of New York (Ivan Hurwitz, Senior Vice President) 33 Liberty Street, New York, New York 10045-0001. Comments can also be sent electronically to Comments.applications@ny.frb.org:

1. Elizabeth Guest Stevens, Woodbridge, New Jersey, as trustee of Trust u/a 2nd(3) u/w of Hubert B. Phipps for Hubert G. Phipps, Trust u/a 2nd(4)(a) u/w Hubert B. Phipps for Hubert G. Phipps, Trust u/a 2nd(3) u/w Hubert B. Phipps for Melissa Phipps, and Trust u/a 2nd(4)(a) u/w Hubert B. Phipps for Melissa Phipps, all of Woodbridge, New Jersey; Frederick E. Guest II Trust dated 12/10/2014, Willington, Delaware, Trust f/b/o Alexander M. D. Guest u/Art. 7(B)(5) u/w Winston F. C. Guest, Deceased, Trust f/b/o Cornelia C. Guest u/Art. 7(B)(5) u/w Winston F. C. Guest, Deceased, and Trust f/b/o Winston Guest, Jr. u/Art. 7(B)(5) u/w Winston F. C. Guest, Deceased, all of New York, New York; and Elizabeth Guest Stevens Revocable Trust dated June 21, 2011, Woodbridge, New Jersey; to acquire voting shares of The Bessemer Group, Incorporated, Woodbridge, New Jersey, and thereby indirectly acquire voting shares of Bessemer Trust Company, N.A., New York, New York, and Bessemer Trust Company, Woodbridge, New Jersey.

B. Federal Reserve Bank of Minneapolis (Chris P. Wangen, Assistant Vice President), 90 Hennepin Avenue, Minneapolis, Minnesota 55480-0291. Comments can also be sent electronically to MA@mpls.frb.org:

1. James Kou Vang, West Lakeland, Minnesota; to acquire voting shares of Morristown Holding Company, Excelsior, Minnesota, and thereby indirectly acquire voting shares of Lake Country Community Bank, Morristown, Minnesota.

C. Federal Reserve Bank of Cleveland (Bryan S. Huddleston, Vice President) 1455 East Sixth Street, Cleveland, Ohio 44101-2566. Comments can also be sent electronically to Comments.applications@clev.frb.org:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of S&T Bancorp, Inc., and thereby indirectly acquire voting shares of S&T Bank, both of Indiana, Pennsylvania.

2. The Vanguard Group, Inc., Malvern, Pennsylvania; on behalf of itself, its subsidiaries and affiliates, including investment companies registered under the Investment Company Act of 1940, other pooled investment vehicles, and institutional accounts that are sponsored, managed, or advised by Vanguard; to acquire additional voting shares of First Financial Bancorp, and thereby indirectly acquire voting shares of First Financial Bank, both of Cincinnati, Ohio.

D. Federal Reserve Bank of St. Louis (Holly A. Rieser, Manager) P.O. Box 442, St. Louis, Missouri 63166-2034. Comments can also be sent electronically to Comments.applications@stls.frb.org:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of Simmons First National Corporation, and thereby indirectly acquire voting shares of Simmons Bank, both of Pine Bluff, Arkansas.

2. The Vanguard Group, Inc., Malvern, Pennsylvania; on behalf of itself, its subsidiaries and affiliates, including investment companies registered under the Investment Company Act of 1940, other pooled investment vehicles, and institutional accounts that are sponsored, managed, or advised by Vanguard; to acquire additional voting shares of Old National Bancorp, and thereby indirectly acquire voting shares of Old National Bank, both of Evansville, Indiana.

E. Federal Reserve Bank of Atlanta (Erien O. Terry, Assistant Vice President) 1000 Peachtree Street, NE, Atlanta, Georgia 30309. Comments can also be sent electronically to Applications.Comments@atl.frb.org:

1. The Vanguard Group, Inc., Malvern, Pennsylvania; on behalf of itself, its subsidiaries and affiliates, including investment companies registered under the Investment Company Act of 1940, other pooled investment vehicles, and institutional accounts that are sponsored, managed, or advised by Vanguard; to acquire voting shares of Synovus Financial Corp., and thereby indirectly acquire voting shares of Synovus Bank, both of Columbus, Georgia.

F. Federal Reserve Bank of San Francisco (Sebastian Astrada, Director, Applications) 101 Market Street, San Francisco, California 94105-1579:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of Hope Bancorp, Inc., and thereby indirectly acquire voting shares of Bank of Hope, both of Los Angeles, California.

Board of Governors of the Federal Reserve System, April 13, 2022.
Michele Taylor Fennell,
Deputy Associate Secretary of the Board.

[FR Doc. 2022-08257 Filed 4-15-22; 8:45 am]

BILLING CODE P